DEPARTMENT OF TRANSPORTATION

Federal Aviation Administration

[Summary Notice No. PE-2000-77]

Petitions for Exemption; Summary of Petitions Received; Dispositions of Petitions Issued

AGENCY: Federal Aviation Administration (FAA), DOT.

ACTION: Notice of petitions for exemption received and of dispositions of prior petitions.

SUMMARY: Pursuant to FAA's rulemaking provisions governing the application, processing, and disposition of petitions for exemption part 11 of Title 14, Code of Federal Regulations (14 CFR), this notice contains a summary of certain petitions seeking relief from specified requirements of 14 CFR, dispositions of certain petitions previously received, and corrections. The purpose of this notice is to improve the public's awareness of, and participation in, this aspect of FAA's regulatory activities. Neither publication of this notice nor the inclusion or omission of information in the summary is intended to affect the legal status of any petition or its final disposition.

DATES: Comments on petitions received must identify the petition docket number involved and must be received on or before January 9, 2001.

ADDRESSES: Send comments on any petition in triplicate to: Federal Aviation Administration, Office of the Chief Counsel, Attn: Rule Docket (ABC-200), Petition Docket No.________, 800 Independence Avenue, SW., Washington, DC 20591.

The petition, any comments received, and a copy of any final disposition are filed in the assigned regulatory docket and are available for examination in the Rules Docket (AGC-200), Room 9150, FAA Headquarters Building (FOB 10A), 800 Independence Avenue, SW., Washington, DC 20591; telephone (202) 267-3132.

FOR FURTHER INFORMATION CONTACT: Forest Rawls (202) 267-8033, or Vanessa Wilkins (202) 267-8029, Office of Rulemaking (ARM-1), Federal Aviation Administration, 800 Independence Avenue, SW., Washington, DC 20591.

This notice is published pursuant to §§ 11.85 and 11.91.

Issued in Washington, DC, on December 14, 2000.
Donald P. Byrne,
Assistant Chief Counsel for Regulations.

Dispositions of Petitions

Docket No.: 30103.

Petitioner: HeliQwest International, Inc.

Section of the 14 CFR Affected: 14 CFR 133.19(a)93) and 133.51.

Description of Relief Sought/Disposition: To permit HeliQwest to conduct external-load operations in the United States using its dry-leased, Canadian-registered Bell 205A-1 helicopter (Registration Mark C-GEAK, Serial No. 30183).

Grant 11/20/00, Exemption No. 7383

Docket No.: 26048

Petitioner: National Test Pilot School

Section of the 14 CFR Affected: 14 CFR 91.319(a)(1) and (2)

Description of Relief Sought/Disposition: To permit NTPS to (1) train non-flight-test students, (2) revise the limits of the areas within which the NTPS operates its experimental category aircraft, (3) reduce the total flight time required for rated U.S. and certain foreign military or former military pilot students from 1,000 hours to 750 hours, and (4) permit pilot students to operate aircraft in solo flight with a current Letter of Authorization (LOA).

Denial, 11/28/00, Exemption No. 5778F

Docket No.: 29320

Petitioner: Wisconsin Aviation, Inc.

Section of the 14 CFR Affected: 14 CFR 135.163 and 135.181

Description of Relief Sought/Disposition: To permit WAI to (1) conduct passenger-carrying operations in single-engine airplanes in certain, limited instrument flight rules (IFR) conditions as were permitted previously by § § 135.103 and 135.181 before the adoption of Amendment No. 135-70; (2) conduct such operations without equipping its airplanes with two independent electrical power-generating sources, or a standby battery or alternate source of electrical power; and (3) a redundant energy-system for gyroscopic instruments.

Denial, 11/20/00, Exemption No. 7382

Docket No.: 30183

Petitioner: Aero Sports Connection, Inc.

Section of the 14 CFR Affected: 14 CFR 91.319(a)(2)

Description of Relief Sought/Disposition: To permit ASC members who own an aircraft with an experimental certificate to be compensated for the use of the aircraft in transition training conducted by authorized flight instructors.

Grant, 11/28/00, Exemption No. 7390

Docket No.: 28663

Petitioner: Goodyear do Brasil Produtos de Borracha Ltda.

Section of the 14 CFR Affected:14 CFR 145.47(b)

Description of Relief Sought/Disposition: To permit Goodyear to use the calibration standards of the Instituto Nacional de Metrologia, Normalização e Qualidade Industrial in lieu of the calibration standards of the U.S. National Institute of Standards and Technology to test its inspection and test equipment.

Grant, 11/30/00, Exemption No. 6547B

Docket No.: 27001

Petitioner: BAE Systems Regional Aircraft (formerly British Aerospace Regional Aircraft)

Section of the 14 CFR Affected: 14 CFR § § 25.562(c)(5) and 25.785(a)

Description of Relief Sought/Disposition: To permit the retrofit of front row passenger seating in Jetstream Series 4100 airplanes already delivered.

Grant, 11/21/00, Exemption No. 5587G

Docket No.: 23495

Petitioner: Department of the Army

Section of the 14 CFR Affected: 14 CFR 91.209(a)(1) and (2)

Description of Relief Sought/Disposition: To permit the Army to conduct certain military training operations at night without lighted aircraft position lights.

Grant, 11/20/00, Exemption No. 3946F

Docket No.: 29820

Petitioner: Bombardier Aerospace

Section of the 14 CFR Affected: 14 CFR 25.785(b)

Description of Relief Sought/Disposition: To provide relief from the general occupant protection requirements for occupants of multiple place side-facing seats that are occupied during takeoff and landing for Bombardier Global Model BD-7001A10 airplanes manufactured prior to January 1, 2004.

Partial Grant, 11/17/00, Exemption No. 7120A

Petitions for Exemption

Docket No.: 26649

Petitioner: Boeing Company

Section of the 14 CFR Affected: 14 CFR 25.562(b)(2)

Description of Relief Sought: To permit flight deck seats on the Boeing Models 777-200LR and 777-300ER airplanes, without complying with the floor pitch and roll requirements of 25.562(b)(2) (Amendment 25-64).

Docket No.: 30162

Petitioner: Emerson Electric Co.

Section of the 14 CFR Affected: Paragraphs 4(a) and 4(b) of Appendix A to 14 CFR part 91

Description of Relief Sought: To allow Emerson to operate its aircraft, with Honeywell and Collins avionics installed, in an “on-condition” maintenance program in accordance with the equipment manufacturer's recommendations for on-aircraft ground or flight check, rather than meeting the bench check requirements of paragraphs 4(a) and 4(b) of Appendix A of part 91.

Docket No.: 30166

Petitioner: Balloon Federation of America

Section of the 14 CFR Affected: 14 CFR 91.119(b) and (c)

Description of Relief Sought: To permit BFA to conduct a safety study during which BFA member pilots would be allowed to operate balloons (1) Below an altitude of 1,000 feet above the highest obstacle within a horizontal radius of 2,000 feet of the aircraft, when operated over congested areas, and (2) below an altitude of 500 feet above the surface in other than congested areas.

Docket No.: 30155

Petitioner: University of Oklahoma Department of Aviation

Section of the 14 CFR Affected: 14 CFR 141.36(b)(2)(i), (c)(3)(i), and (d)(1)

Description of Relief Sought: To allow ODA to (1) Use an assistant chief instructor who has not had at least one year of flight training experience, (2) use an assistant chief instructor who has not had at least one year of instrument flight instructor experience, and (3) use an assistant chief instructor who has had at least 700 hours rather than 1,000 hours of experience as a pilot in command.

Docket No.: 30059

Petitioner: Saudi Arabian Oil Company

Section of the 14 CFR Affected: 14 CFR 61.51(f)

Description of Relief Sought: To permit Saudi Aramco commercial helicopter pilots flying as second pilots aboard Bell 212, 412, or 214ST helicopters operated by Saudi Aramco to count such time as second-in-command time toward fulfillment of the flight time requirements of 14 CFR necessary to take the airline transport pilot practical test.

Docket No.: 30172

Petitioner: Raytheon Aerospace Support Services

Section of the 14 CFR Affected: 14 CFR 145.61

Description of Relief Sought: To allow Raytheon to perform work on U.S. Customs airplanes without retaining a copy of the records of the work performed.

[FR Doc. 00-32417 Filed 12-19-00; 8:45 am]

BILLING CODE 4910-13-M